DEPARTMENT OF TRANSPORTATION

National Highway Traffic Safety Administration

[Docket No. NHTSA-2007-0026; Notice 1]

General Motors Corporation, Receipt of Petition for Decision of Inconsequential Noncompliance

General Motors Corporation (GM) has determined that certain model year 2006 & 2007 motor vehicles equipped with remote start systems that it manufactured prior to May of 2007, did not fully comply with paragraph S7.3(a)(1) of 49 CFR 571.208, Federal Motor Vehicle Safety Standard (FMVSS) No. 208 Occupant Crash Protection. GM has filed an appropriate report pursuant to 49 CFR Part 573, Defect and Noncompliance Responsibility and Reports.

Pursuant to 49 U.S.C. 30118(d) and 30120(h), GM has petitioned for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

Affected are approximately 146,360 model year 2006 & 2007 motor vehicles including; Buick Lacrosse and Pontiac Grand Prix passenger cars; and Buick Terraza, Chevrolet Uplander, Pontiac Montana SV6 and Saturn Relay multipurpose passenger vehicles. GM certified these vehicles to paragraph S7.3(a)(1) of 49 CFR 571.208 which requires:

S7.3 (a) A seat belt assembly provided at the driver's seating position shall be equipped with a warning system that, at the option of the manufacturer, either—

(1) Activates a continuous or intermittent audible signal for a period of not less than 4 seconds and not more than 8 seconds and that activates a continuous or flashing warning light visible to the driver displaying the identifying symbol for the seat belt telltale shown in Table 2 of FMVSS 101 or, at the option of the manufacturer if permitted by FMVSS 101, displaying the words ”Fasten Seat Belts” or ”Fasten Belts”, for not less than 60 seconds (beginning when the vehicle ignition switch is moved to the ”on” or the ”start” position) when condition(b) exists simultaneously with condition(c) * * *

(b) The vehicle's ignition switch is moved to the ”on” position or to the ”start” position.

(c) The driver's lap belt is not in use, as determined, at the option of the manufacturer, either by the belt latch mechanism not being fastened, or by the belt not being extended at least 4 inches from its stowed position.

GM explains that under certain circumstances following a remote engine start that the seatbelt assembly warning system audible signal and/or the telltale warning light do not always activate as required to fully comply FMVSS No. 208.

The vehicles in question fall into two groups. The first group contains only 2006 model year vehicles. The second group consists of a few late production 2006 multipurpose passenger vehicles and all the 2007 vehicles reported. For simplification, these groups are referenced hereafter as the 2006 and the 2007s.

GM states that when a subject vehicle's engine is started using the ignition key (not with remote start), three warning cycles are provided to unbelted occupants for the 2007 vehicles. The first warning cycle satisfies the requirements specified in FMVSS 208 S7.3(a)(1) for the unbuckled driver. The second and third cycles provide additional audible and telltale warnings, of the same duration required by the standard, for drivers who remain unbuckled. The 2006 vehicles receive only the first cycle of driver and passenger warnings. If at anytime the driver buckles, the warnings will cease.

GM additionally explains that in some cases, if the vehicle is started using the remote start function the seatbelt assembly warning system will not activate upon key rotation to the “RUN” position as specified by FMVSS No. 208 S7.3(a)(l). For both 2006 and 2007 vehicles following remote start, an audible warning will sound when the key is rotated to the “RUN” position, but the required telltale warning may not be provided. The length of the telltale warning for the first warning cycle is decreased by the amount of time between when the engine is started and when the key is turned to the “RUN” position. The driver, buckled or unbuckled, receives an audible warning except in the situation where the front passenger buckles between 25 and 33 seconds following the remote start (in effect buckling in response to the chime and silencing it before the driver enters the vehicle).

For the 2006 vehicles, as originally manufactured, there were no supplemental warning signal cycles. The 2007 vehicles were provided with an enhanced safety belt reminder system that will activate if front outboard occupants are not belted and the vehicle speed is above 5 mph. The 2007 vehicles will provide two cycles of audible and visual belt warning notice in such conditions.

GM also provided a detailed explanation of the reasons why it believes that the noncompliance is inconsequential to motor vehicle safety.

In summary, GM states that for all of the subject vehicles, the unbuckled driver receives a warning when the ignition key is turned to the “RUN” position essentially every time:

(1) When the vehicles are started with its ignition key, the required seat belt warnings are provided.

(2) When the 2007 vehicles and the upgraded ¹ 2006 vehicles are started remotely, the unbuckled driver receives, at a minimum, the audible warning when the ignition key turned to the “RUN” position plus 2 cycles of visual and audible warning when the vehicle's speed reaches 5 Miles per hour (mph).

¹ General Motors has initiated a Customer Satisfaction Program to upgrade the belt reminder system on the 2006 vehicles to provide three sets of warning cycles as implemented on the 2007 vehicles and has sent letters to the customers of those vehicles informing them of this.

(3) When the 2006 vehicles are started remotely, the unbuckled driver will receive, at a minimum, the audible warning.

The only exception for where an audible warning is not provided is when the front passenger buckles between 25 and 33 seconds following the remote start (in effect buckling in response to the chime and silencing it before the driver enters the vehicle).

GM states that it believes that because the noncompliances are inconsequential to motor vehicle safety that no further corrective action is warranted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: December 10, 2007.

Authority: 49 U.S.C. 30118, 30120: delegations of authority at CFR 1.50 and 501.8.

Issued on: November 2, 2007.
Harry Thompson,
Acting Director, Office of Vehicle Safety Compliance.

[FR Doc. E7-22057 Filed 11-8-07; 8:45 am]

BILLING CODE 4910-59-P